DEPARTMENT OF ENERGY

Federal Energy Regulatory Commission

[Docket No. IC19-25-000]

Commission Information Collection Activities (FERC-551); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-551, (Reporting of Flow Volume and Capacity by Interstate Natural Gas Pipelines).

DATES: Comments on the collection of information are due November 12, 2019.

ADDRESSES: You may submit comments (identified by Docket No. IC19-25-000) by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-551, Reporting of Flow Volume and Capacity by Interstate Natural Gas Pipelines.

OMB Control No.: 1902-0243.

Type of Request: Three-year extension of the FERC-551 information collection requirements with no changes to the current reporting requirements.

Abstract: The Commission is authorized to facilitate price transparency in markets for the sale or transportation of physical natural gas in interstate commerce, having due regard for the public interest, the integrity of those markets, fair competition, and the protection of consumers. FERC-551 uses the information provided by pipelines as part of its overall implementation of the statutory provisions of sections 23 of the Natural Gas Act, 16 U.S.C. 717t-2. More specifically, the Commission relies, in part, on section 23(a)(1) of the Natural Gas Act, for authority to collect this information and uses the pipelines' FERC-551 postings as part of fulfilling the transparency provisions of section 23(a)(1) of the Natural Gas Act. The data requirements for pipelines are in listed the Code of Federal Regulations (CFR) under 18 CFR 284.13, reporting requirements for interstate pipelines. The Commission has directed that the data requirements under FERC-551 are to be posted on interstate pipelines' websites and provided in downloadable file formats, in conformity with 18 CFR 284.12.

The posting requirements are based on the Commission's authority under section 23 of the NGA (as added by the Energy Policy Act of 2005), which provides, in relevant part, that the Commission may issue such rules as necessary and appropriate to provide for the dissemination of “information about the availability and prices of natural gas at wholesale and in interstate commerce . . . .” ¹ This provision enhances the Commission's authority to ensure confidence in the nation's natural gas markets. The Commission's market-oriented policies for the wholesale natural gas industry require that interested persons have broad confidence that reported market prices accurately reflect the interplay of legitimate market forces. Without confidence in the efficiency of price formation, the true value of transactions is very difficult to determine. Further, price transparency facilitates ensuring that jurisdictional prices are “just and reasonable.” ²

¹ Section 23(a)(2) of the NGA, 15 U.S.C. 717t-2(a)(2) (2000 & Supp. V 2005).

² See sections 4 and 5 of the NGA, 15 U.S.C. 717c and 717d.

The posting of FERC-551 information occurs on a daily basis. The data must be available for download for not less than 90 days from the date of posting and must be retained by the pipeline for three years.

The daily posting requirements for major non-interstate pipelines prescribed in the Commission's Order No. 720 are no longer required. The number of respondents used to develop the burden estimates do not include any major non-interstate pipelines.

Type of Respondents: Interstate Natural Gas Pipelines.

Estimate of Annual Burden: ³ The Commission estimates the total public reporting burden and cost for this information collection as follows:

³ Burden is defined as the total time, effort, or financial resources expended by persons to generate, maintain, retain, or disclose or provide information to or for a Federal agency. For further explanation of what is included in the information collection burden, refer to 5 CFR 1320.3.

⁴ The estimates for cost per response are derived using the following formula: Average Burden Hours per Response * $65.38/hour = Average cost/response. The figure includes wages plus benefits and comes from the Bureau of Labor Statistics (https://www.bls.gov/oes/2017/may/oes131111.htm data from May, 2017) using Management Analyst category code (13-1111) for wages and the Management, business, and financial occupational group (https://www.bls.gov/news.release/ecec.t04.htm) for benefits.

FERC-551—Reporting of Flow Volume and Capacity by Interstate Natural Gas Pipelines
| Number NGA of respondents | Annual number of responses per respondent | Total number of responses | Average burden & cost per response ⁴ | Total annual burden hours & total annual cost | Burden hour & cost per respondent ($)
| (1) | (2) | (1) * (2) = (3) | (4) | (3) * (4) = (5) | (5) ÷ (1)
FERC-551 | 172 | 365 | 62,780 | 0.5 hours; $32.69 | 31,390 hrs.; $2,052,278.20 | 182.5 hrs. ; $11,931.85.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: September 5, 2019.
Kimberly D. Bose,
Secretary.

[FR Doc. 2019-19750 Filed 9-11-19; 8:45 am]

BILLING CODE 6717-01-P